DEPARTMENT OF AGRICULTURE

Animal and Plant Health Inspection Service

[Docket No. 01-130-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the regulations for pork and poultry products from Mexico transiting the United States.

DATES: We will consider all comments we receive that are postmarked, delivered, or e-mailed by April 29, 2002.

ADDRESSES: You may submit comments by postal mail/commercial delivery or by e-mail. If you use postal mail/commercial delivery, please send four copies of your comment (an original and three copies) to: Docket No. 01-130-1, Regulatory Analysis and Development, PPD,APHIS, Station 3C71, 4700 River Road Unit 118, Riverdale, MD 20737-1238. Please state that your comment refers to Docket No. 01-130-1. If you use e-mail, address your comment to regulations@aphis.usda.gov. Your comment must be contained in the body of your message; do not send attached files. Please include your name and address in your message and “Docket No. 01-130-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the regulations for pork and poultry products from Mexico transiting the United States, contact Dr. Michael David, Chief, Sanitary International Standards Team, VS, APHIS, 4700 River Road Unit 33, Riverdale, MD 20737-1231; (301) 734-3577. For copies of more detailed information on the information collection, contact Mrs. Celeste Sickles, APHIS' Information Collection Coordinator, at (301) 734-7477.

SUPPLEMENTARY INFORMATION: Title: Poultry and Pork Products From Mexico Transiting the United States.

OMB Number: 0579-0145.

Type of Request: Extension of approval of an information collection.

Abstract: The Animal and Plant Health Inspection Service (APHIS) of the United States Department of Agriculture is responsible for, among other things, regulating the importation into the United States of certain animals and animal products to prevent the introduction of communicable animal diseases (such as hog cholera or exotic Newcastle disease) into the United States.

The regulations under which we conduct these disease prevention activities are contained in title 9, chapter I, subchapter D, parts 91 through 99 of the Code of Federal Regulations. These regulations govern the importation of animals and animal products.

Under our regulations in 9 CFR 94.15, we allow fresh (chilled or frozen) pork and pork products from specified States in Mexico to transit the United States, under certain conditions, for export to another country. We also allow poultry carcasses, parts, and products (except eggs and egg products) from specified States in Mexico that are not eligible for entry into the United States to transit the United States, via land ports, for immediate export.

We have determined that fresh pork and pork products, as well as poultry carcasses, parts, and products, from these Mexican States can transit the United States under the conditions set forth in the regulations with minimal risk of introducing hog cholera or exotic Newcastle disease.

Allowing fresh pork and pork products and poultry carcasses, parts, and products from certain Mexican States to transit the United States necessitates the use of several information collection activities, including the completion of an import permit application, the placement of serially numbered seals on product containers, and the forwarding of a pre-arrival notification to APHIS port personnel.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.77 hours per response.

Respondents: Exporters in Mexico and full-time, salaried veterinarians employed by Mexico's Federal Animal Health Protection Service.

Estimated annual number of respondents: 75.

Estimated annual number of responses per respondent: 10.

Estimated annual number of responses: 750.

Estimated total annual burden on respondents: 578 hours. (Due to averaging, the total annual burden hours may not equal the product of the annual number of responses multiplied by the reporting burden per response.)

All responses to this notice will be summarized and included in the request for OMB approval. All comments will also become a matter of public record.

Done in Washington, DC, this 22nd day of February 2002 .
W. Ron DeHaven,
Acting Administrator, Animal and Plant Health Inspection Service.

[FR Doc. 02-4804 Filed 2-27-02; 8:45 am]

BILLING CODE 3410-34-U